ENVIRONMENTAL PROTECTION AGENCY

[FRL-9954-28-Region 5]

Proposed Prospective Purchaser Agreement for the Willow Run Powertrain Site in Ypsilanti, Michigan

AGENCY: Environmental Protection Agency (EPA).

ACTION: Notice; request for public comment.

SUMMARY: In accordance with the Prospective Purchaser Agreement, notice is hereby given of a proposed administrative settlement concerning the Willow Run Powertrain Site in Ypsilanti, Michigan with the following settling parties: Willow Run Arsenal of Democracy Landholdings Limited Partnership and the American Center for Mobility. The settlement requires the Settling Parties to, if necessary, execute and record a Declaration of Restrictive Covenant; provide access to the Site and exercise due care with respect to existing contamination. The settlement includes a covenant not to sue the Settling Parties pursuant to the Comprehensive Environmental Response, Compensation, and Liability Act or the Resource Conservation and Recovery Act with respect to the Existing Contamination. Existing Contamination is defined as any hazardous substances, pollutants, or contaminants or Waste Material present or existing on or under the Property as of the Effective Date of the Settlement Agreement; any hazardous substances, pollutants, or contaminants or Waste Material that migrated from the Property prior to the Effective Date; and any hazardous substances, pollutants, or contaminants or Waste Material presently at the Site that migrates onto, on, under, or from the Property after the Effective Date.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, Records Center, 77 W. Jackson Blvd., 7th Fl., Chicago, Illinois 60604. Commenters may request an opportunity for a public hearing in the affected area, in accordance with Section 7003(d) of RCRA.

DATES: Comments must be submitted on or before 30 days after publication in the Federal Register.

ADDRESSES: The proposed settlement is available for public inspection at the EPA, Region 5, Records Center, 77 W. Jackson Blvd., 7th Fl., Chicago, Illinois 60604. A copy of the proposed settlement may be obtained from Peter Felitti, Assoc. Regional Counsel, EPA, Office of Regional Counsel, Region 5, 77 W. Jackson Blvd., Mail Code: C-14J, Chicago, Illinois 60604. Comments should reference the Willow Run Powertrain Site, Ypsilanti, Michigan and should be addressed to Peter Felitti, Assoc. Regional Counsel, EPA, Office of Regional Counsel, Region 5, 77 W. Jackson Blvd., Mail Code: C-14J, Chicago, Illinois 60604.

FOR FURTHER INFORMATION CONTACT: Peter Felitti, Assoc. Regional Counsel, EPA, Office of Regional Counsel, Region 5, 77 W. Jackson Blvd., Mail Code: C-14J, Chicago, Illinois 60604.

SUPPLEMENTARY INFORMATION: The Settling Parties propose to acquire ownership of the former General Motors Corporation North American operation, at 2930 Ecorse Road in Ypsilanti, Michigan. The Site is one of the 89 sites that were placed into an Environmental Response Trust (the “Trust”) as a result of the resolution of the 2009 GM bankruptcy. The Trust is administrated by Revitalizing Auto Communities Environmental Response.

Dated: September 23, 2016.
Douglas Ballotti,
Acting Director, Superfund Division.

[FR Doc. 2016-25168 Filed 10-17-16; 8:45 am]

BILLING CODE 6560-50-P